DEPARTMENT OF TRANSPORTATION

Federal Aviation Administration

14 CFR Part 25

[Policy Statement No. ANM-04-115-28]

Policy Statement With Request to an Unreliable Design of Seat Belt Attachment Fittings on Passenger Seats and Compliance With § 25.601

AGENCY: Federal Aviation Administration (FAA), DOT.

ACTION: Notice of proposed policy; request for comments.

SUMMARY: The Federal Aviation Administration (FAA) announces the availability of proposed certification policy for compliance with 14 CFR 25.601 regarding an unreliable seat belt attachment fitting design installed on passenger seats.

DATES: Send your comments on or before January 27, 2006.

ADDRESSES: Address our comments to the individual identified under FOR FURTHER INFORMATION CONTACT.

FOR FURTHER INFORMATION CONTACT: Jayson Claar, Federal Aviation Administration, Transport Airplane Directorate, Transport Standards Staff, Airframe and Cabin Safety Branch, ANM-115, 1601 Lind Avenue, SW., Renton, WA 98055-4056; telephone (425) 227-2194; fax (425) 227-1149; e-mail jayson.claar@faa.gov.

SUPPLEMENTARY INFORMATION:

Comments Invited

The proposed policy is available on the Internet at the following address: http://www.airweb.faa.gov/rgl. If you do not have access to the Internet, you can obtain a copy of the policy by contacting the person listed under FOR FURTHER INFORMATION CONTACT.

The FAA invites your comments on this proposed policy. We will accept our comments, data, views, or arguments by letter, fax, or e-mail. Send your comments to the person indicated in FOR FURTHER INFORMATION CONTACT. Mark your comments, “Comments to Policy Statement No. ANM-04-115-28.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The proposed policy will provide Federal Aviation Administration certification policy for compliance with 14 CFR 25.601 regarding an unreliable design of seat belt attachment fitting installed on passenger seats. The FAA has determined that this particular design does not comply with § 25.601. This determination means that the FAA will not approve any additional installations of this design of seat belt attachment fittings on passenger seats.

Issued in Renton, Washington, on December 13, 2005.
Ali Bahrami,
Manager, Transport Airplane Directorate, Aircraft Certification Service.

[FR Doc. 05-24501 Filed 12-27-05; 8:45 am]

BILLING CODE 4910-13-M